DEPARTMENT OF TRANSPORTATION

Coast Guard

33 CFR Part 165

[CGD07-01-037]

RIN 2115-AE84

Regulated Navigation Area; Savannah River, Georgia

AGENCY: Coast Guard, DOT.

ACTION: Supplemental notice of proposed rulemaking.

SUMMARY: The Coast Guard proposes to create a Regulated Navigation Area (RNA) on a portion of the Savannah River to regulate waterway traffic when vessels carrying Liquefied Natural Gas (LNG) are transiting or moored on the Savannah River. This action is necessary because of the size, draft, and volatile cargo of LNG tankships. This rule enhances public and maritime safety by minimizing the risk of collision, allision or grounding and the possible release of LNG.

DATES: Comments and related material must reach the Coast Guard on or before February 12, 2002.

ADDRESSES: You may mail comments and related material to Marine Safety Office Savannah, Juliette Gordon Low Federal Building, Suite 1017, 100 W. Oglethorpe, Savannah, Georgia, 31401. Marine Safety Office Savannah maintains the public docket for this rulemaking. Comments and material received from the public, as well as documents indicated in this preamble as being available in the docket [CGD07-01-037], will become part of this docket and will be available for inspection or copying at Marine Safety Office Savannah between 7:30 a.m. and 4:30 p.m., Monday through Friday, except Federal holidays.

FOR FURTHER INFORMATION CONTACT: Lieutenant Commander James Hanzalik at the Marine Safety Office Savannah; phone (912) 652-4353 extension 205.

SUPPLEMENTARY INFORMATION:

Request for Comments

We encourage you to participate in this rulemaking by submitting comments and related material. If you do so, please include your name and address, identify the docket number for this rulemaking [CGD07-01-037], indicate the specific section of this document to which each comment applies, and give the reason for each comment. Please submit all comments and related material in an unbound format, no larger than 8½ by 11 inches, suitable for copying. If you submit them by mail and would like to know that they reached us, please enclose a stamped, self-addressed postcard or envelope. We will consider all comments and material received during the comment period. We may change this proposed rule in view of them.

Public Meeting

We do not intend to hold a public meeting. But you may submit a request for a meeting by writing to Marine Safety Office Savannah at the address under ADDRESSES explaining why one would be beneficial. If we determine that one would aid this rulemaking, we will hold one at a time and place announced by a later notice in the Federal Register.

Background and Purpose

The port of Savannah is receiving LNG tankships at the Southern Liquefied Natural Gas (LNG) facility on Elba Island. This facility has been struck by passing vessels twice in the past 20 years. This proposed rule is necessary to protect the safety of life and property on the navigable waters of the United States from hazards associated with LNG activities.

The Savannah River has a narrow and restricted channel with many bends. The LNG facility is located at one of these bends on Elba Island. The LNG tankship berth is located adjacent to and parallel with the toe of the shipping channel. Because of these factors, the hazardous nature of LNG and the substantial volume of deep draft vessel traffic in Savannah (approximately 5000 annual transits), the risk of collision or allision involving a LNG tankship must be addressed.

In both instances when the Elba Island LNG facility was struck, the facility was inactive, however, damage to both the facility and vessels was extensive. The potential consequences from this type of allision would be significantly more severe with a LNG tankship moored at the Elba Island dock. This rulemaking is needed to prevent incidents involving a LNG tankship in transit or while moored at the facility.

On June 19, 2001, the Coast Guard published a notice of proposed rulemaking in the Federal Register entitled Regulated Navigation Area: Savannah River, Georgia (66 FR 32915). We received 22 comment letters in response to this proposed rule. On October 10, 2001 we published a temporary final rule in the Federal Register entitled Regulated Navigation Area: Savannah River, Georgia (66 FR 51562). That temporary rule, effective until March 21, 2002, was necessary to address the risk proposed by the resumption of LNG activities, while allowing us to redraft and receive comments on this supplemental notice of proposed rulemaking.

Discussion of Proposed Rule

The Coast Guard received 22 comment letters addressing the original notice of proposed rulemaking. The Coast Guard has considered all of these comments and has made content changes and other administrative and numbering corrections in this supplemental notice of proposed rulemaking. The specific section of the original proposed rule that each comment or group of comments addresses is indicated in bold text. The Coast Guard's response to the comments immediately follows the bolded text.

Two comments concerned the proposed construction of the Jasper County waterfront facility in the vicinity of the LNG terminal. While we acknowledge the possibility of this facility's construction, no regulatory approvals have been granted for the proposed Jasper County facility. We have not modified the original proposed rule in light of these two comments.

33 CFR 165.756 (d) (1) (i). “Except for a vessel that is moored at a marina, wharf, or pier, and that remains moored, no vessel greater than 1600 gross tons is permitted within the Regulated Navigation Area without the consent of the Captain of the Port (COTP).”

The Coast Guard received four comments expressing concern over potential delays during a LNG tankship arrival and departure. The Coast Guard believes that any potential delays associated with LNG tankship movements will be minimized through coordination during pre-transit conferences conducted by the Captain of the Port (COTP) prior to a LNG tankship's arrival and departure and by the pre-positioning of additional towing vessels by the LNG facility in support of this RNA.

33 CFR 165.756 (d) (2) (iv) Requirements for vessels carrying LNG: “Not enter or get underway within the regulated navigation area if visibility during the transit is, or is expected to be, less than three (3) miles. * * *”

Two respondents provided specific comments concerning the three-mile visibility restriction. The comments noted the original proposed rule would impose visibility-based restrictions on LNG tankships that may be considered different from those applicable to similar size vessels. The Coast Guard has carefully considered these comments and proposes to eliminate the specific language requiring at least three miles of visibility. Instead, visibility issues will be addressed on a case-by-case basis with input from the Coast Guard, the pilot and the master of the LNG tankship during the pre-transit conference required in the Savannah Area Liquefied Natural Gas (LNG) Vessel Management and Emergency Plan. This will allow greater flexibility for vessel entry, based on the professional judgment of the mariners making the transit and the Coast Guard. We propose to modify and renumber § 165.756 (d)(2)(iv) of the original proposed rule. The new section number would be § 165.756 (d)(1)(iii)(D) and it would read, “Not enter or get underway within the RNA if visibility during the transit is not sufficient to safely navigate the channel. . . .”

33 CFR 165.756 (d) (3). “Restrictions on vessel operations while a LNG vessel is moored:”

The Coast Guard proposes to amend the original proposed rule concerning the protection of passing vessels under 1600 gross tons as they pass a LNG tankship while it is moored at the LNG terminal. This new proposed rule prohibits vessels less than 1600 gross tons from approaching within 70 yards of a moored LNG tankship. This change was made to protect vessels less than 1600 gross tons from the hazards associated with the transfer of LNG at the Elba Island terminal. This change will not restrict vessel movement within the deep draft channel and will have minimal or no impact on commercial or recreational vessel traffic.

33 CFR 165.756 (d) (3) (i) and (ii) Towing vessel requirements for the LNG facility. The LNG facility “* * * shall station and provide a minimum of two (2) towing vessels each with a minimum of 100,000 pounds of bollard pull to safely maneuver transiting vessels greater than 1600 gross tons * * *” and for transiting vessels over 1600 gross tons while a LNG vessel is moored at the facility, “when passing a moored LNG vessel shall have a minimum of two (2) towing vessels in escort each with a minimum of 100,000 pounds of bollard pull. * * *”

The Coast Guard has amended this 2-tug requirement based on simulations conducted at Marine Safety International. The objective of this section is to prevent or mitigate the potential consequences of a vessel alliding with a moored LNG tankship. Based on simulations conducted and a review of existing industry escort operations, the Coast Guard has determined that an adequate level of safety can be achieved with two towing vessels having adequate bollard pull, horsepower and the capability to operate in the “indirect mode.” These simulations also revealed that other combinations of operation by towing vessels not made-up to the escorted vessel prior to the onset of the same emergent situation, or by towing vessels not capable of safely operating in the indirect mode, whether made-up or not, consistently failed to prevent a high impact allision. Similar escort requirements typically applied to tankships on the West Coast of the United States have successfully controlled and/or arrested escorted vessels' movements under emergent circumstances.

Therefore, the Coast Guard proposes to amend section (d)(3)(ii) of the original proposed rule to read: “Transiting vessels 1600 gross tons or greater, when passing a moored LNG tankship, shall have a minimum of two (2) towing vessels, each with a minimum capacity of 100,000 pounds of bollard pull, 4,000 horsepower, and the ability to safely operate in the indirect mode, made-up in such a way as to be immediately available to arrest and/or control the motion of an escorted vessel in the event of steering, propulsion or other casualty.”

The Coast Guard received two comments concerning the potential for liability claims due to the facility having to provide escort towing vessel services. These comments generally asserted that because escort tugs were being required by a federal regulation, the facility should not be liable for any damages incurred during escort operations.

This proposed rule addresses safety issues associated with the navigable waters of the United States and attempting to address liability issues in this rule is inappropriate. Ultimately, issues related to liability will be resolved in the legal process.

33 CFR 165.756 (d) (3) (ii). “Transiting vessels over 1600 gross tons when passing a moored LNG vessel shall have a minimum of two (2) towing vessels in escort each with a minimum of 100,000 pounds of bollard pull made up in a way to safely maneuver past the transferring LNG vessel. Outbound vessels shall be escorted from the terminus of the Fort Jackson range until the vessel is safely past the LNG dock. Inbound vessels shall be escorted from Field's Cut until the vessel is safely past the LNG dock.”

The Coast Guard received 16 comments objecting to the requirement that tugs make-up (physically attach) to vessels over 1600 gross tons as they pass a moored LNG tankship. These comments agreed with the requirement for having vessels escorted but asserted that either the pilot, the master and/or the towing vessel operators should make the decision on whether to make-up, or that towing vessels should not be made-up because this type of arrangement provided no additional level of safety.

We disagree with comments asserting that the towing vessel should not be made-up. As previously discussed in the NPRM under the heading of 33 CFR 165.756(d)(3)(i) and (ii), Coast Guard research clearly indicates that the most effective way to maneuver and control a vessel is if it is made-up to towing vessels. These conclusions have been tested and were verified by simulations based on similar historical casualty scenarios.

Considering the proximity of the moored LNG tankship to the shipping channel and the restricted nature of the waterway, requiring towing vessels to be made-up to the escorted vessel is prudent. During a casualty (steering or propulsion), reaction time is critical. By ensuring the escorting towing vessels are made-up prior to a casualty, control will be immediate and any delays associated with attempting to make-up at the point of extremis will be eliminated.

We received nine comments expressing concern related to potential cost for the delays associated with the making-up of towing vessels to vessels passing the moored LNG tanker. Many of the comments stated that delays due to towing vessel availability and the time required to make-up would have an adverse economic impact.

Based on simulations conducted, marginal delays associated with making-up was minimal as compared with normal transits and passing at minimum speed. The time required to make-up results in minimal delays because the passing vessel continues its forward movement during this evolution. The make-up time is critical, however, when a vessel is in extremis and reaction time must be nearly instantaneous. For these reasons and as previously discussed, the Coast Guard continues to require that the escort towing vessels be made-up to the escorted vessel.

The Coast Guard received eight comments concerning the length of the escort zone for vessels passing an LNG tankship while it is moored. The original proposed zone was from Fort Jackson to Elba Island Cut. Since publishing the original notice of proposed rulemaking, additional research has been conducted which suggests that a reduction in the size of the escort zone will not adversely affect the level of safety. We agree with the comments and have amended this proposed rule accordingly.

We recognize circumstances will dictate the distance and time required to make-up the towing vessels. It is left to the professional judgment of the mariners involved in the evolution to ensure the vessels are properly made-up prior to passing Bight Channel Light 46 for outbound vessels and Elba Island Light 37 for inbound vessels, and that vessels remain made-up until clear of the LNG tankship. (NOTE: The distance between Lights 46 & 37 is approximately 2.1 nautical miles or approximately 1 nautical mile on either side of the facility. The originally proposed zone size was 3.3 nautical miles or roughly 1.6 nautical miles on either side.)

33 CFR 165.756 (d) (3) (iii). “* * * the operator of the facility where the LNG vessel is moored shall provide at least one towing vessel with sufficient capacity to safely hold the LNG vessel to the dock while transiting vessels pass.”

Two respondents provided specific comments concerning the requirement to provide at least one towing vessel with sufficient capacity to safely hold the LNG tankship to the dock while transiting vessels pass. The Coast Guard has carefully considered these comments and has determined that the original wording of this requirement may restrict the flexibility of the “standby” towing vessel to assist in a wider range of casualty scenarios. The Coast Guard proposes to amend and renumber section (d)(3)(iii) of the original proposed rule to now read (d)(2)(ii): “In addition to the two towing vessels required by paragraph (d)(2)(i) of this section, the operator of the facility where the LNG tankship is moored shall provide at least one (1) standby towing vessel of sufficient capacity to take any appropriate actions in an emergency as directed by the LNG vessel bridge watch.”

Regulatory Evaluation

This proposed rule is not a “significant regulatory action” under section 3(f) of Executive Order 12866, Regulatory Planning and Review, and does not require an assessment of potential costs and benefits under section 6(a)(3) of that Order. The Office of Management and Budget has not reviewed it under that Order. It is not significant under the regulatory policies and procedures of the Department of Transportation (DOT) (44 FR 11040, February 26, 1979).

We expect the economic impact of this proposed rule to be so minimal so that a full Regulatory Evaluation under paragraph 10e of the regulatory policies and procedures of DOT is unnecessary. Only an estimated one percent of the annual transits on the Savannah River will be LNG tankships. Further, all LNG transits will be coordinated and scheduled with the pilots and the Coast Guard Captain of the Port to minimize port disruption and delays for other commercial traffic, and LNG tankships. Finally, requests to enter the RNA may be granted on a case-by-case basis by the Coast Guard Captain of the Port.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule will not have a significant economic impact on a substantial number of small entities because LNG vessels will comprise an estimated one percent of the large commercial vessel transits on the Savannah River. Further, the tug escort requirements of this rule for vessels transiting past a moored LNG vessel will only affect an estimated 12 percent of all large commercial vessel transits on the River. Delays, if any, will be minimal because vessel speeds would be reduced regardless of the tug requirements. Delays for inbound and outbound traffic due to LNG transits will be minimized through pre-transit conferences with the pilots and the Coast Guard Captain of the Port. Finally, the RNA requirements are less burdensome for smaller vessels, which are more likely to be small entities, because of the lower risk associated with these vessels.

Assistance for Small Entities

Under section 213(a) of the Small Business Regulatory Enforcement Fairness Act of 1996 (Pub. L. 104-121), we offered to assist small entities in understanding this proposed rule so that they could better evaluate its effects on them and participate in the rulemaking process. If the proposed rule would affect your small business and you have questions concerning its provisions or options for compliance, please contact the person listed under FOR FURTHER INFORMATION CONTACT. Small businesses may also send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We considered the environmental impact of this proposed rule and concluded that, under figure 2-1, paragraph (34)(g), of Commandant Instruction M16475.lD, this rule is categorically excluded from further environmental documentation. A “Categorical Exclusion Determination” is available in the docket where indicated under ADDRESSES.

List of Subjects in 33 CFR Part 165

Harbors, Marine safety, Navigation (water), Reporting and record keeping requirements, Safety measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Section 165.756 is added to read as follows:

§ 165.756 Regulated Navigation Area; Savannah River, Georgia.

(a) Regulated Navigation Area (RNA). The Savannah River between Fort Jackson (32°04.93′ N, 081°02.19′ W) and the Savannah River Channel Entrance Sea Buoy is a regulated navigation area.

(b) Definitions. The following definitions are used in this section:

Bollard pull is an industry standard used for rating tug capabilities and is the pulling force imparted by the tug to the towline. It means the power that an escort tug can apply to its working line(s) when operating in a direct mode.

Direct mode is a towing technique which, for the purpose of this regulation, is defined as a method of operation by which a towing vessel generates by thrust alone, forces on an escorted vessel at an angle equal to or nearly equal to the towline, or thrust forces applied directly to the escorted vessel's hull.

Indirect mode is a towing technique which, for the purpose of this regulation, is defined as a method of operation by which an escorting towing vessel generates towline forces on an escorted vessel by a combination of thrust and hydrodynamic forces resulting from a presentation of the underwater body of the towing vessel at an oblique angle to the towline. This method increases the resultant bollard pull, thereby arresting and/or controlling the motion of an escorted vessel.

LNG tankship means a vessel as described in Title 46, Code of Federal Regulations, Part 154.

Made-up means physically attached by cable, towline, or other secure means in such a way as to be immediately ready to exert force on a vessel being escorted.

Make-up means the act of, or preparations for becoming made-up.

Operator means the person who owns, operates, or is responsible for the operation of a facility or vessel.

Savannah River Channel Entrance Sea Buoy means the aid to navigation labeled R W “T” Mo (A) WHIS on the National Oceanic and Atmospheric Administration's (NOAA) Nautical Chart 11512.

Standby means immediately available, ready, and equipped to conduct operations.

Underway means that a vessel is not at anchor, made fast to the shore, or aground.

(c) Applicability. This section applies to all vessels operating within the RNA, including naval and other public vessels, except vessels that are engaged in one of the following operations:

(1) Law enforcement or search and rescue operations;

(2) Servicing aids to navigation;

(3) Surveying, maintenance, or improvement of waters in the RNA; or

(4) Actively engaged in escort, maneuvering or support duties for the LNG tankship.

(d) Regulations.

(1) Restrictions on vessel operations while an LNG tankship is underway within the RNA.

(i) Except for a vessel that is moored at a marina, wharf, or pier, and remains moored, no vessel 1600 gross tons or greater is permitted within the RNA without the consent of the Captain of the Port (COTP).

(ii) All vessels under 1600 gross tons shall keep clear of transiting LNG tankships.

(iii) The owner, master, or operator of a vessel carrying LNG shall:

(A) Comply with the notice requirements of 33 CFR part 160. Updates are encouraged at least 12 hours before arrival at the RNA boundaries. The COTP may delay the vessel's entry into the RNA to accommodate other commercial traffic. LNG tankships are further encouraged to include in their notice a report of the vessel's propulsion and machinery status and any outstanding recommendations or deficiencies identified by the vessel's classification society and, for foreign flag vessels, any outstanding deficiencies identified by the vessel's flag state.

(B) Obtain permission from the COTP before commencing the transit into the RNA.

(C) While transiting, make security broadcasts every 15 minutes as recommended by the U.S. Coast Pilot 5 Atlantic Coast. The person directing the vessel must also notify the COTP telephonically or by radio on channel 13 or 16 when the vessel is at the following locations: Sea Buoy, Savannah Jetties, and Fields Cut.

(D) Not enter or get underway within the RNA if visibility during the transit is not sufficient to safely navigate the channel, and/or wind speed is, or is expected to be, greater than 25 knots.

(E) While transiting the RNA, the LNG tankship shall have sufficient towing vessel escorts.

(2) Requirements for LNG facilities:

(i) The operator of a facility where a LNG tankship is moored shall station and provide a minimum of two (2) escort towing vessels each with a minimum of 100,000 pounds of bollard pull, 4,000 horsepower and capable of safely operating in the indirect mode, to escort transiting vessels 1600 gross tons or greater past the moored LNG tankship.

(ii) In addition to the two towing vessels required by paragraph (d)(2)(i) of this section, the operator of the facility where the LNG tankship is moored shall provide at least one (1) standby towing vessel of sufficient capacity to take appropriate actions in an emergency as directed by the LNG vessel bridge watch.

(3) Requirements for vessel operations while an LNG tankship is moored:

(i) While moored within the RNA, LNG tankships shall maintain a bridge watch of appropriate personnel to monitor vessels passing under escort and to coordinate the actions of the standby towing vessel required in paragraph (d)(2)(ii) of this section in the event of emergency.

(ii) Transiting vessels 1600 gross tons or greater, when passing a moored LNG tankship, shall have a minimum of two (2) towing vessels, each with a minimum capacity of 100,000 pounds of bollard pull, 4,000 horsepower, and the ability to operate safely in the indirect mode, made-up in such a way as to be immediately available to arrest and/or control the motion of an escorted vessel in the event of steering, propulsion or other casualty. While it is anticipated that vessels will utilize the facility, provided towing vessel services required in paragraph(d)(2)(i) of this section, this regulation does not preclude escorted vessel operators from providing their own towing vessel escorts, provided they meet the requirements of this part.

(A) Outbound vessels shall be made-up and escorted from Bight Channel Light 46 until the vessel is safely past the LNG dock.

(B) Inbound vessels shall be made-up and escorted from Elba Island Light 37 until the vessel is safely past the LNG dock.

(iii) All vessels of less than 1600 gross tons shall not approach within 70 yards of an LNG tankship.

(e) LNG schedule. The Captain of the Port will issue a Broadcast Notice to Mariners to inform the marine community of scheduled LNG tankship activities during which the restrictions imposed by this section are in effect.

(f) Waivers.

(1) The COTP may waive any requirement in this section, if the COTP finds that it is in the best interest of safety or in the interest of national security.

(2) An application for a waiver of these requirements must state the compelling need for the waiver and describe the proposed operation and methods by which adequate levels of safety are to be obtained.

(g) Enforcement. Violations of this RNA should be reported to the Captain of the Port, Savannah, at (912) 652-4353. In accordance with the general regulations in § 165.13 of this part, no person may cause or authorize the operation of a vessel in the Regulated Navigation Area contrary to the regulations.

Dated: December 1, 2001.
James S. Carmichael,
Rear Admiral, U.S. Coast Guard, Commander, Seventh Coast Guard District.

[FR Doc. 01-30840 Filed 12-13-01; 8:45 am]

BILLING CODE 4910-15-U